DEPARTMENT OF ENERGY

Federal Energy Regulatory Commission

PacifiCorp; Notice of Application Tendered for Filing With the Commission and Soliciting Additional Study Requests

Take notice that the following hydroelectric application has been filed with the Commission and is available for public inspection.

a. Type of Application: Exemption from Licensing.

b. Project No.: 2381-071.

c. Date Filed: December 16, 2025.

d. Applicant: PacifiCorp.

e. Name of Project: Ashton Hydroelectric Project.

f. Location: On the Henry's Fork of the Snake River, in Fremont County, Idaho. The project occupies 15.6 acres of United States lands administered by the U.S. Bureau of Land Management.

g. Filed Pursuant to: 18 CFR 16.22 and the Public Utility Regulatory Policies Act of 1978, 16 U.S.C. 2705, 2708, amended by the Hydropower Regulatory Efficiency Act of 2013, Public Law 113-23, 127 Stat. 493 (2013).

h. Applicant Contact: William Shallenberger, Vice President, PacifiCorp—Renewable Resources, 825 NE Multnomah, Suite 1800, Portland, OR 97232; telephone at (503) 813-7268; email at will.shallenberger@pacificorp.com; or Jaime Campbell-Lavallee, Sr. Environmental Analyst, PacifiCorp—Renewable Resources, 822 Grace Power Plant Road, Grace, ID 83241; telephone at (208) 970-6821; email at jaime.campbell-lavallee@pacificorp.com.

i. FERC Contact: Amy Chang, Project Coordinator, Northwest Branch, Division of Hydropower Licensing; telephone at (202) 502-6154; email at amy.chang@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: on or before 5:00 p.m. Eastern Time on February 17, 2026.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Ashton Hydroelectric Project (P-2381-071).

m. The application is not ready for environmental analysis at this time.

The existing project works consist of: (1) a reservoir that has a gross storage capacity of 6,080 acre feet and a surface area of 392.9 acres at a normal maximum water surface elevation of 5,155.9 feet; ¹ (2) a 56-foot-high, 222-foot-long earth and rock-filled dam covered with roller-compacted concrete on the downstream slope and a crest elevation of 5,156.6 feet; (3) an 82-foot-long reinforced concrete spillway with six, 10-foot-high radial gates; (4) a 280-foot-long, 15-foot-high diversion tunnel located through the right abutment; (5) an intake consisting of a reinforced concrete control structure, two 7.5-foot-wide by 15-foot-high stainless steel slide gates with an invert at an elevation of 5,110.0 feet; (6) a reinforced concrete powerhouse that contains, two turbine-generator units, each rated at 2.0 megawatts (MW), and one turbine-generator unit rated at 2.7 MW with a total installed capacity of 6.7 MW; (7) an 80-foot-wide, 80-foot-long, and 20-foot-deep tailrace; (8) a 46/2.3-kilovolt (kV) step-up transformer; (9) a 133-foot-long, 46-kV transmission line; and (10) appurtenant facilities.

¹ All elevations are in PacifiCorp's local datum, unless otherwise stated. To convert to the North American Vertical Datum of 1988, add 2.972 feet.

PacifiCorp proposes to rehabilitate one generator unit (either generator Unit 2 or 3) to improve its efficiency and increase its nameplate capacity. Under PacifiCorp's proposed upgrades, the project would have a maximum capacity of 7.58 MW.

n. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-2381). For assistance, contact FERC at FERCOnlineSupport@ferc.gov, (866) 208-3676 (toll free), or (202) 502-8659 (TTY).

You may also register online at https://ferconline.ferc.gov/FERCOnline.aspx to be notified via email of new filings and issuances related to this or other pending projects. For assistance, contact FERC Online Support.

o. For public inquiries and assistance with making filings such as interventions, comments, or requests for rehearing, contact the Office of Public Participation at (202) 502-6595 or OPP@ferc.gov.

p. Procedural Schedule and Final Amendments: The application will be processed according to the following preliminary schedule. Revisions to the schedule will be made as appropriate.

Milestone | Target date
Issue Deficiency Letter and Request Additional Information | February 2026.
Issue Notice of Application Accepted for Filing | June 2026.
Issue Notice of Scoping | June 2026.
Scoping Comments Due | July 2026.
Issue Notice of Ready for Environmental Analysis | August 2026.

q. Final amendments to the application must be filed with the Commission no later than 30 days from the issuance date of the notice of ready for environmental analysis.

(Authority: 18 CFR 2.1)

Dated: December 22, 2025.
Debbie-Anne A. Reese,
Secretary.

[FR Doc. 2025-24021 Filed 12-30-25; 8:45 am]

BILLING CODE 6717-01-P